DEPARTMENT OF COMMERCE

International Trade Administration

U.S. Travel and Tourism Advisory Board

AGENCY: International Trade Administration, U.S. Department of Commerce.

ACTION: Notice of Reopening of the Application Period for Membership on the U.S. Travel and Tourism Advisory Board.

SUMMARY: On July 24, 2009, the Department of Commerce's International Trade Administration published a notice in the Federal Register (74 FR 36667) soliciting applications for persons to serve on the U.S. Travel and Tourism Advisory Board (Board). The July 24, 2009 notice provided that all applications must be received by the Office of Advisory Committees of the Department of Commerce by close of business on August 20, 2009. This notice reopens the application period in order to provide the public with an additional opportunity to submit applications. The evaluation criteria for selecting members contained in the July 24, 2009 notice shall continue to apply, with the additional requirement that members cannot be a federally-registered lobbyist. The purpose of the Board is to advise the Secretary of Commerce on matters relating to the travel and tourism industry.

ADDRESSES: Please submit application information to J. Marc Chittum, Office of Advisory Committees, U.S. Travel and Tourism Advisory Board Executive Secretariat, U.S. Department of Commerce, Room 4043, 1401 Constitution Avenue, NW., Washington, DC 20230.

DATES: All applications must be received by the Office of Advisory Committees by close of business on December 17, 2009.

FOR FURTHER INFORMATION CONTACT: J. Marc Chittum, U.S. Travel and Tourism Advisory Board, Room 4043, 1401 Constitution Avenue, NW., Washington, DC 20230, telephone: 202-482-4501, e-mail: Marc.Chittum@trade.gov.

SUPPLEMENTARY INFORMATION: The Office of Advisory Committees is reopening the application period for the Board's current two-year charter term to expire September 20, 2011. Although the Department has received many applications and is still considering all applications received to date (including any applications received after the prior deadline but before issuance of this notice), the Department is seeking a broader applicant pool more representative of the U.S. travel and tourism industry as a whole. By reopening and extending the application period, the Department also hopes to have a broader applicant pool to reflect the full diversity of the travel and tourism industry in terms of ownership demographics, geographic locations, and company size of the entities to be represented. The criteria and procedures for selecting members contained in the July 24, 2009 notice continue to apply and are republished herein for convenience. Additionally, the applicant is required to provide an affirmative statement that the applicant is not a federally-registered lobbyist, and that the applicant understands that the applicant, if appointed, will not be allowed to continue to serve as a Board member if the applicant becomes a federally-registered lobbyist. Pending applicants remain under consideration and do not need to resubmit their applications.

Members will be appointed for a term to expire with the Board's current charter on September 20, 2011. Members will be selected, in accordance with applicable Department of Commerce guidelines, based on their ability to advise the Secretary of Commerce on matters relating to the U.S. travel and tourism industries, to act as a liaison among the stakeholders represented by the membership and to provide a forum for those stakeholders on current and emerging issues in the travel and tourism industry. Members of the Board shall be selected in a manner that ensures that the Board is balanced in terms of points of view, industry sector or subsector, range of products and services, demographics, geographic locations, and company size. Additional factors which may be considered in the selection of Board members include candidates' proven experience in promoting, developing, and implementing advertising and marketing programs for travel-related or tourism-related industries; or the candidates' proven abilities to manage tourism-related or other service-related organizations.

Each Board member shall serve as the representative of a U.S. entity or U.S. organization in the travel and tourism sector. For the purposes of eligibility, a U.S. entity shall be defined as a firm incorporated in the United States (or an unincorporated firm with its principal place of business in the United States) that is controlled by U.S. citizens or by another U.S. entity. An entity is not a U.S. entity if 50 percent plus one share of its stock (if a corporation, or a similar ownership interest of an unincorporated entity) is controlled, directly or indirectly, by non-U.S. citizens or non-U.S. entities. For the purposes of eligibility, a U.S. organization shall be defined as an organization, including a trade association or government unit or body, established under the laws of the United States that is controlled by U.S. citizens or by another U.S. organization or entity, as determined based on board of directors (or comparable governing body), membership, and revenue sources.

Priority may be given to a Chief Executive Officer or President (or comparable level of responsibility) of a U.S. organization or U.S. entity in the travel and tourism sector. Priority may also be given to individuals with international tourism marketing experience.

Officers or employees of state and regional tourism marketing entities are eligible for consideration for Board membership as representatives of U.S. organizations. A state and regional tourism marketing entity may include, but is not limited to, state government tourism offices, state and/or local government supported tourism marketing entities, or multi-state tourism marketing entities. Again, priority may be given to a Chief Executive Officer or President (or comparable level of responsibility) of a state and regional tourism marketing entity.

Members will serve at the discretion of the Secretary of Commerce. Board members shall serve in a representative capacity, representing the views and interests of their particular business sector or subsector. Board members are not special government employees and will receive no compensation for their participation in Board activities. Members participating in Board meetings and events will be responsible for their travel, living and other personal expenses. Meetings will be held regularly and not less than twice annually, usually in Washington, DC. Members are required to attend a majority of the Board's meetings. The first Board meeting for the new charter term has not yet been set.

To be considered for membership, please provide the following:

1. Name and title of the individual requesting consideration.

2. A sponsor letter from the applicant on his or her organization/entity letterhead or, if the applicant is to represent an entity other than his or her employer, a letter from the entity to be represented, containing a brief statement of why the applicant should be considered for membership on the Board. This sponsor letter should also address the applicant's travel and tourism-related experience.

3. The applicant's personal resume.

4. An affirmative statement that the applicant is not required to register as a foreign agent under the Foreign Agents Registration Act of 1938, as amended.

5. An affirmative statement by the applicant that he or she is not a federally-registered lobbyist, and that the applicant understands that he or she, if appointed, will not be allowed to continue to serve as a Board member if the applicant becomes a federally-registered lobbyist.

6. If the applicant represents a state or regional tourism marketing entity, the functions and responsibilities of the entity.

7. If the applicant represents an organization, information regarding the control of the organization, including the governing structure, members, and revenue sources as appropriate signifying compliance with the criteria set forth above.

8. If the applicant represents a company, information regarding the control of the company, including the governing structure and stock holdings as appropriate signifying compliance with the criteria set forth above.

9. The entity's or organization's size and ownership, product or service line and major markets in which the entity or organization operates.

Appointments of members to the Board will be made by the Secretary of Commerce.

Dated: December 2, 2009.
J. Marc Chittum,
Executive Secretary, U.S. Travel and Tourism Advisory Board.

[FR Doc. E9-29116 Filed 12-4-09; 8:45 am]

BILLING CODE 3510-DR-P